DEPARTMENT OF COMMERCE

Foreign-Trade Zones Board

[Docket 26-2004]

Tumi, Inc.—Application for Subzone Status; Amendment of Application and Reopening of Comment Period

The application for subzone status at the Tumi, Inc. facility in Vidalia, Georgia, submitted by the Savannah Airport Commission (69 FR 34993, 6/23/04), has been amended. The company has amended the application to include kitting operations. The company plans to assemble computer accessory kits, electric adapter kits and modem/electric kits (HTS 8471.60 and 8504.40, duty-free). Imported components that could be included in a kit include: a leather pouch, a computer mouse, receiver, cable, LED light, a power travel adapter and a travel modem (HTS 4202.91, 8471.60, 8471.80, 8504.40, 8544.41 and 9405.40, duty rate ranges from duty-free to 4.5%). The company has also indicated that it will import nylon pouches (HTS 4202.92, duty rate 17.6%), but that they will be admitted to the zone in privileged foreign status.

The comment period for the case referenced above is being reopened until September 20, 2004, to allow interested parties additional time in which to comment. Rebuttal comments may be submitted during the subsequent 15 day period, until October 4, 2004. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

Dated: August 12, 2004.
Dennis Puccinelli,
Executive Secretary.

[FR Doc. 04-19138 Filed 8-19-04; 8:45 am]

BILLING CODE 3510-DS-P